DEPARTMENT OF HEALTH AND HUMAN SERVICES

Food and Drug Administration

[Docket No. FDA-2016-N-0001]

Pediatric Clinical Investigator Training Workshop; Correction

AGENCY: Food and Drug Administration, HHS.

ACTION: Notice; Correction.

SUMMARY: The Food and Drug Administration (FDA) is correcting a notice that appeared in the Federal Register on June 16, 2016 (81 FR 39271). The document announced a “Pediatric Clinical Investigator Training” workshop and contained an incorrect Web link for registration and an incorrect Web link for more information on the workshop. This document corrects those errors.

FOR FURTHER INFORMATION CONTACT: Terrie L. Crescenzi, Office of Pediatric Therapeutics, Food and Drug Administration, 10903 New Hampshire Ave., Silver Spring, MD 20993-0002, terrie.crescenzi@fda.hhs.gov or Betsy Sanford, Office of Pediatric Therapeutics, Food and Drug Administration, 10903 New Hampshire Ave., Silver Spring, MD 20993-0002, elizabeth.sanford@fda.hhs.gov.

SUPPLEMENTARY INFORMATION: In the Federal Register of Thursday, June 16, 2016, in FR Doc. 2016-14230, on page 39272, the following corrections are made:

1. On page 39272, in the first column, in the first paragraph under the “Workshop Attendance and Participation” heading, the first sentence is corrected to read “If you wish to attend this workshop, visit https://www.eventbrite.com/e/pediatric-clinical-investigator-training-workshop-tickets-19708166657.

2. On page 39272, in the first column, in the second paragraph under the “Workshop Attendance and Participation” heading, the first sentence is corrected to read “Registration information, the agenda, and additional background materials can be found at http://www.fda.gov/NewsEvents/MeetingsConferencesWorkshops/ucm506658.htm.

Dated: July 13, 2016.
Leslie Kux,
Associate Commissioner for Policy.

[FR Doc. 2016-17015 Filed 7-18-16; 8:45 am]

BILLING CODE 4164-01-P